DEPARTMENT OF DEFENSE

Office of the Secretary

Notice of Meeting; Correction

AGENCY: Department of Defense.

ACTION: Notice; correction.

SUMMARY: The Department of Defense published a document in the Federal Register on May 31, 2005, concerning a meeting on June 15-16, 2005, of the Independent Review Panel to Study the Relationships between Military Department General Counsels and Judge Advocates General. The Panel has decided to cancel the meeting scheduled for June 16.

FOR FURTHER INFORMATION CONTACT: James R. Schwenk, 703 697-9343.

Correction

In the Federal Register of May 31, 2005, in FR Doc. 05-10872, on page 30934, in the second column, correct the meeting date in the SUMMARY, “Purpose” and DATES captions to read:

“June 15”.

In the third column, correct the FOR FURTHER INFORMATION CONTACT caption to read:

FOR FURTHER INFORMATION CONTACT: Any member of the public wishing further information concerning this meeting or wishing to submit written comments may contact: Mr. James R. Schwenk, Designated Federal Official, Department of Defense Office of the General Counsel, 1600 Defense Pentagon, Arlington, Virginia 20301-1600, Telephone: (703) 697-9343, Fax: (703) 693-7616, schwenkj@dodgc.osd.mil.

Interested persons may submit a written statement for consideration by the Panel at any time prior to June 11, 2005.

Dated: June 3, 2005.
Jeannette Owings-Ballard,
OSD Federal Register Liaison Officer, Department of Defense.

[FR Doc. 05-11623 Filed 6-10-05; 8:45 am]

BILLING CODE 5001-06-P